DEPARTMENT OF HEALTH AND HUMAN SERVICES

Public Meeting of the President's Council on Bioethics; Cancellation

AGENCY: Department of Health and Human Services, Office of the Secretary, Office of Public Health and Science, The President's Council on Bioethics.

ACTION: Notice.

SUMMARY: A notice was published in the Federal Register on Friday, May 29, 2009, Vol. 74, No. 102, to announce that a meeting of the President's Council on Bioethics was scheduled to be held on Thursday, June 25, 2009, and Friday, June 26, 2009. This meeting has been cancelled in its entirety. Currently, there are no plans to reschedule this meeting.

FOR FURTHER INFORMATION CONTACT: Ms. Diane M. Gianelli, Director of Communications, The President's Council on Bioethics, 1425 New York Avenue, NW., Suite C100, Washington, DC 20005; telephone: (202) 296-4669; e-mail: info@bioethics.gov.; Web site: http://www.bioethics.gov.

Dated: June 18, 2009.
F. Daniel Davis,
Executive Director, The President's Council on Bioethics.

[FR Doc. E9-14775 Filed 6-22-09; 8:45 am]

BILLING CODE 4154-06-P